DEPARTMENT OF THE INTERIOR

Bureau of Land Management

[LLIDT02000.L12200000.MA0000.241A.00 4500079363]

Final Supplementary Rules for the Castle Rocks Land Use Plan Amendment Area, Idaho

AGENCY: Bureau of Land Management, Interior.

ACTION: Notice of final supplementary rules.

SUMMARY: The Bureau of Land Management (BLM) is finalizing supplementary rules for all BLM-administered public lands within an approximately 400-acre area in Idaho known as Castle Rocks. The BLM addressed this area in the November 2013 Cassia Resource Management Plan (RMP) Amendment and Record of Decision (ROD). The Cassia RMP amendment made implementation-level decisions designed to conserve natural and cultural resources while providing for recreational opportunities. These supplementary rules will allow the BLM and law enforcement partners to enforce those decisions.

DATES: These supplementary rules are effective on November 27, 2015.

ADDRESSES: You may direct your inquiries to the Bureau of Land Management, Burley Field Office, 15 East 200 South, Burley, Idaho 83318. email: BLM_ID_BurleyOffice@blm.gov.

FOR FURTHER INFORMATION CONTACT: Dennis Thompson, Outdoor Recreation Planner, at 208-677-6664 or by email at dthompson@blm.gov. Persons who use a telecommunications device for the deaf (TDD) may call the Federal Information Relay Service (FIRS) at 1-800-877-8339 to contact Mr. Thompson.

SUPPLEMENTARY INFORMATION:

I. Background

II. Discussion of Public Comments

III. Discussion of Supplementary Rules

IV. Procedural Matters

I. Background

Castle Rocks is a dramatic geologic area located in the southern Albion Mountain Range of Cassia County, Idaho. Castle Rocks consists primarily of quartz-monzonite, a type of granite associated with the Almo Pluton. Pinnacles and monoliths, towering over 400 feet in local relief, characterize the area. Castle Rocks currently contains nearly pristine cultural and natural resources.

Until 2003, a difficult and lengthy hike from Stines Pass was the only way to access Castle Rocks, due to the unique ownership pattern and geography of the surrounding lands. This limited access helped preserve rare resources that are of great importance to the Shoshone-Bannock Tribes of Fort Hall and the Shoshone-Paiute Tribes of Duck Valley. Castle Rocks became less isolated after the passage of the Castle Rock Ranch Acquisition Act of 2000 (Pub. L. 106-421), which authorized the National Park Service (NPS) to purchase a private ranch that provided more convenient public access on the east side of the geologic area. After the acquisition, the NPS exchanged the property with the Idaho Department of Parks and Recreation (IDPR) for other lands adjacent to existing NPS properties.

Since May 25, 2003, the IDPR has provided park facilities and managed recreation at Castle Rocks. Since 2003, the BLM has been protecting resources on the 400-acre parcel under its management through a series of temporary closure orders prohibiting rock climbing, camping, staging, and trail building. In 2012, the BLM determined that amending the Cassia RMP was necessary to properly manage the area. The decision in the Plan Amendment is to close the area permanently to rock climbing, camping, staging, and trail building. This decision will protect significant cultural resources that were, or had the potential to be, adversely impacted by these activities. The Shoshone-Bannock Tribes of Fort Hall and the Shoshone-Paiute Tribes of Duck Valley consider the area a sacred site and have requested the assistance of the BLM Burley Field Office in nominating the area as a Traditional Cultural Property under the National Historic Preservation Act.

These supplementary rules will help the BLM achieve management objectives and implement the Cassia RMP amendment. They will also provide the BLM with enforcement capability to help prevent damage to cultural and natural resources.

II. Discussion of Public Comments

The BLM published the proposed supplementary rules in the Federal Register on October 15, 2014 (79 FR 61899). Public comments were accepted for a 60-day period ending on December 15, 2014. The BLM received three comments. One comment favored protecting the resources, one comment was against any restriction on Federal lands, and the third comment did not apply to the Castle Rocks area. The comments received were not specific or confined to the issues pertinent to the proposed rules, nor did they recommend change or clarification; therefore, no changes were made to the proposed supplementary rules.

III. Discussion of Supplementary Rules

Supplementary rules are necessary to protect the cultural and natural resources within the 400-acre BLM parcel at Castle Rocks as described in the environmental assessment (EA) for the Cassia RMP amendment.

The supplementary rules prohibit traditional rock climbing, sport rock climbing, bouldering, staging, trail building, and camping on BLM-administered public land within the Castle Rocks area because of potential adverse effects to significant Traditional Cultural Properties, and rare historic, geologic, scenic and cultural resources resulting from these activities. Use of the existing Stines Creek trail as shown on the 2012 Oakley 1:100,000 surface management Status Map and free solo climbing—that is, climbing which does not use ropes, harnesses or other protective gear during ascent—are still authorized. The EA for the Cassia RMP amendment (Appendix II) designates the trail appropriate for foot, horse, or bike use and describes the authorized course of the trail.

IV. Procedural Matters

Executive Orders 12866, Regulatory Planning and Review

The final supplementary rules are not a significant regulatory action and are not subject to review by the Office of Management and Budget under Executive Orders 12866. They will not have an effect of $100 million or more on the economy. They will not adversely affect, in a material way, the economy; productivity; competition; jobs; environment; public health or safety; or State, local, or tribal governments or communities. The final supplementary rules will not create a serious inconsistency or otherwise interfere with an action taken or planned by another agency. They will not materially alter the budgetary effects of entitlements, grants, user fees, or loan programs or the right or obligations of their recipients; nor will they raise novel legal or policy issues. The supplementary rules merely contain rules of conduct for public use of a limited selection of public lands to prevent adverse effects to significant traditional cultural properties and rare historic, geologic, and scenic values at Castle Rocks.

National Environmental Policy Act (NEPA)

The BLM prepared an EA as part of the development of the Cassia RMP amendment at Castle Rocks. During that NEPA process, alternative decisions for the Cassia RMP amendment were fully analyzed or discussed and offered for public comment, including the substance of these supplementary rules. The pertinent analysis can be found in Chapter 4 of the Cassia RMP Amendment and Proposed Decision Record, April 2013. The ROD for the Cassia RMP was signed by the Idaho BLM State Director on November 20, 2013. These final supplementary rules will provide for enforcement of the plan decisions. The rationale for the decisions made is fully covered in the ROD, which is available for review in the BLM administrative record at the location specified in the ADDRESSES section and online at https://eplanning.blm.gov/epl-front-office/eplanning/planAndProjectSite.do?methodName=dispatchToPatternPage&currentPageId=47887.

Regulatory Flexibility Act

Congress enacted the Regulatory Flexibility Act of 1980 (RFA), as amended, 5 U.S.C. 601-612, to ensure that Government regulations do not unnecessarily or disproportionately burden small entities. The RFA requires a regulatory flexibility analysis if a rule will have a significant economic impact, either detrimental or beneficial, on a substantial number of small entities. These final supplementary rules will merely establish rules of conduct for use of a limited area of public lands and will have no effect on business entities of any size. Therefore, the BLM has determined, under the RFA, that the final supplementary rules will not have a significant economic impact on a substantial number of small entities.

Small Business Regulatory Enforcement Fairness Act

These final supplementary rules do not constitute a “major rule” as defined at 5 U.S.C. 804(2). They will not result in an effect on the economy of $100 million or more, an increase in costs or prices, or significant adverse effects on competition, employment, investment, productivity, innovation, or the ability of United States-based enterprises to compete with foreign-based enterprises in domestic and export markets. These final supplementary rules will merely establish rules of conduct for use of a limited area of public lands and do not affect commercial or business activities of any kind.

Unfunded Mandates Reform Act

These final supplementary rules will not impose an unfunded mandate on State, local, or tribal governments or the private sector of more than $100 million per year nor do they have a significant or unique effect on State, local, or tribal governments or the private sector. Therefore, the BLM is not required to prepare a statement containing the information required by the Unfunded Mandates Reform Act (2 U.S.C. 1531 et seq.).

Executive Order 12630, Governmental Actions and Interference With Constitutionally Protected Property Rights (Takings)

These final supplementary rules will not have significant takings implications nor will they be capable of interfering with constitutionally protected property rights. Therefore, the BLM has determined that these rules will not cause a “taking” of private property or require preparation of a takings assessment.

Executive Order 13132, Federalism

These final supplementary rules will not have a substantial direct effect on the States, on the relationship between the Federal Government and the States, or on the distribution of power and responsibilities among the various levels of government. These final supplementary rules will not conflict with any law or regulation of the State of Idaho. Therefore, in accordance with Executive Order 13132, the BLM has determined that these final supplementary rules will not have sufficient federalism implications to warrant preparation of a Federalism Assessment.

Executive Order 12988, Civil Justice Reform

The BLM has determined that these final supplementary rules will not unduly burden the judicial system and that they meet the requirements of sections 3(a) and 3(b)(2) of Executive Order 12988.

Executive Order 13175, Consultation and Coordination with Indian Tribal Governments

Consultation and Coordination with the Shoshone-Bannock and the Shoshone-Paiute Tribes has been ongoing since 2010. The Tribes have been fully briefed and support these supplementary rules.

Information Quality Act

The Information Quality Act (Section 515 of Pub. L. 106-554) requires Federal agencies to maintain adequate quality, objectivity, utility, and integrity of the information that they disseminate. In developing these supplementary rules, the BLM did not conduct or use a study, experiment, or survey or disseminate any information to the public.

Executive Order 13211, Actions Concerning Regulations That Significantly Affect Energy Supply, Distribution, or Use

These final supplementary rules will not constitute a significant energy action. These final supplementary rules will not have an adverse effect on energy supplies, production, or consumption, and have no connection with energy policy.

Paperwork Reduction Act

These final supplementary rules do not contain information collection requirements that the Office of Management and Budget must approve under the Paperwork Reduction Act of 1995, 44 U.S.C. 3501 et seq.

Author

The principal author of these supplementary rules is Amanda M. Dodson, Acting Burley Field Manager, Bureau of Land Management.

For the reasons stated in the Preamble, and under the authority of 43 CFR 8365.1-6, the Burley Field Office, Bureau of Land Management, establishes supplementary rules for BLM-administered lands covered under the Cassia Resource Management Plan Amendment at Castle Rocks, to read as follows:

Supplementary Rules for the Portion of the Castle Rocks Area Managed by the U.S. Bureau of Land Management

Definitions

Traditional rock climbing means a style of climbing where a climber or group of climbers places all gear required to protect against falls and removes it when passage is complete.

Sport rock climbing means a style of climbing that relies on fixed protection against falls, usually bolts and/or top anchors.

Bouldering means ropeless climbing that involves short, sequential moves on rock usually no more than 20 feet off the ground and uses bouldering crash pads at the base of the climbing area to prevent injuries from falls.

Staging means assembling, unpacking or otherwise preparing gear for climbing; typically conducted at the base of the cliff, where gear such a backpacks may also be left during a climb, but in some cases, is conducted at the top of a cliff.

Trail building means the act of creating new travel routes through the use of tools; or user-created trails developed through repeated visits to a specific destination. EA DOI-BLM-ID-T020-2013-0010-EA Appendix II serves as the baseline for existing trails on BLM lands.

Camping means setting up, occupying or making use of a place for shelter or overnight stay.

On BLM-administered public land within the Castle Rocks area, the following supplementary rules apply:

1. Traditional and sport rock climbing and bouldering are prohibited.

2. Staging is prohibited.

3. Camping is prohibited.

4. Trail building is prohibited.

Exceptions: The following persons are exempt from these supplementary rules:

A. Any Federal, State, local, and/or military employee acting within the scope of their duties;

B. Members of any organized rescue or fire-fighting force performing an official duty; and

C. Persons, agencies, municipalities or companies holding an existing special use permit and operating within the scope of their permit.

Penalties: On public lands under Section 303(a) of the Federal Land Policy and Management Act of 1976 (43 U.S.C. 1733(a)) and 43 CFR 8360.0-7, any person who violates any of these supplementary rules may be tried before a United States Magistrate and fined no more than $1,000 or imprisoned for no more than 12 months or both. Such violations may also be subject to enhanced fines provided for by 18 U.S.C. 3571.

Timothy M. Murphy,
BLM Idaho State Director.

[FR Doc. 2015-27373 Filed 10-27-15; 8:45 am]

BILLING CODE 4310-GG-P